DEPARTMENT OF JUSTICE

Notice of Lodging of Consent Decree Under the Comprehensive Environmental Response, Compensation, and Liability Act (CERCLA) and Clean Water Act (CWA)

Notice is hereby given that on October 1, 2007, a proposed Consent Decree (Decree) in United States et al. v. United States Steel Corp. et al., Civil Action No. 07-CV-4114-JAR was lodged with the United States District Court for the District of Kansas.

In this action the United States and the State of Kansas, in their capacities as natural resource trustees, sought recovery from U.S. Steel Corporation and Citibank Global Holdings for natural resource damages to the National Zinc Superfund Site (Site) in Cherryvale, Kansas and the surrounding area. The Complaint alleges that Defendants are liable as successors to owners or operators of a smelter, which was previously located and operated at the Site. The Decree would settle the government's claim for injuries to natural resources at the Site, in return for a total payment of $495,750, including $452,750 for restoration projects and $43,000 for reimbursement of natural resource damage assessment costs incurred by the Federal and State trustees. As specified by the Decree, the joint recovery for restoration work would be deposited in the United States Department of Interior's Natural Resource Damage Assessment and Restoration Fund, and the Federal and State trustees would make joint decisions concerning future restoration expenditures in accordance with a restoration plan that they would prepare.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should refer to United States et al. v. United States Steel Corp. et al., D.J. Ref. 90-11-3-08705.

The Decree may be examined at the Office of the United States Attorney, 1200 Epic Center, 301 N. Main, Wichita, Kansas 67202. During the public comment period, the Decree, may also be examined on the following Department of Justice Web site, to http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.00 (25 cents per page reproduction cost) payable to the U.S. Treasury or, if by e-mail or fax, forward a check in that amount to the Consent Decree Library at the stated address.

Robert E. Maher, Jr.,
Assistant Chief, Environmental Enforcement Section, Environment and Natural Resources Division.

[FR Doc. 07-5127 Filed 10-16-07; 8:45 am]

BILLING CODE 4410-15-M